DEPARTMENT OF HEALTH AND HUMAN SERVICES

National Committee on Vital and Health Statistics: Notice of Meeting and Request for Public Comment

Pursuant to the Federal Advisory Committee Act, the Department of Health and Human Services (HHS) announces the following advisory committee meeting and request for public comment.

Name: National Committee on Vital and Health Statistics (NCVHS), Listening Session to be held by the Subcommittee on Standards.

Dates and Times: Wednesday, August 25, 2021: 10:00 a.m.-5:30 p.m. EST.

Place: Virtual.

Status: Open.

Purpose: The purpose of this listening session is to obtain input from representatives of standards development organizations, invited industry stakeholders, and representatives from federal agencies on a variety of topics pertaining to data standards, harmonization of standards and code sets, new Fast Healthcare Interoperability Resources (FHIR) application programming interfaces (APIs) to enhance the exchange of clinical and administrative data, the state of readiness for certain administrative and clinical standards to be considered for adoption or use as standards under the Health Insurance Portability and Accountability Act (HIPAA),¹ for interoperability, and other subjects beyond HIPAA transactions.

¹ Public Law 104-191, 110 Stat. 1936 (Aug 21, 1996), available at https://www.congress.gov/104/plaws/publ191/PLAW-104publ191.pdf.

This Notice also includes a Request for Public Comment to solicit input from interested individuals and stakeholders who would like to provide input to the Subcommittee in advance of the August 25, 2021, listening session.

The Subcommittee seeks to understand the extent to which current and emerging standards for exchanging electronic health-related data under HIPAA and other applicable federal legislation and regulatory processes are meeting the business needs of the health care system. Applicable legislation and regulation include, but are not limited to HIPAA, the final Interoperability and Patient Access Rule promulgated by the Centers for Medicare and Medicaid Services (CMS),² the 21st Century Cures Act,³ the Affordable Care Act of 2010,⁴ the Health Information Technology for Economic and Clinical Health Act (HITECH),⁵ and Medicare Access and CHIP Reauthorization Act of 2015 (MACRA).⁶

² Centers for Medicare and Medicaid Services, Final Rule: Medicare and Medicaid Programs; Patient Protection and Affordable Care Act; Interoperability and Patient Access for Medicare Advantage Organization and Medicaid Managed Care Plans, State Medicaid Agencies, CHIP Agencies and CHIP Managed Care Entities, Issuers of Qualified Health Plans on the Federally-Facilitated Exchanges, and Health Care Providers,” 85 FR 25510, May 1, 2020, available at https://www.govinfo.gov/content/pkg/FR-2020-05-01/pdf/2020-05050.pdf.

³ Public Law 114-255, 130 STAT. 1033 (Dec. 13, 2016), available at https://www.congress.gov/114/plaws/publ255/PLAW-114publ255.pdf.

⁴ Public Law 111-148, 124 Stat. 119 (Mar 13. 2010), available at https://www.congress.gov/111/plaws/publ148/PLAW-111publ148.pdf.

⁵ Public Law 111-5, Title XIII, 123 Stat. 115, 226 (Feb. 17, 2009), available at https://www.govinfo.gov/content/pkg/PLAW-111publ5/pdf/PLAW-111publ5.pdf.

⁶ Public Law 114-10, 129 Stat. 87 (April 16, 2015), available at https://www.congress.gov/114/plaws/publ10/PLAW-114publ10.pdf.

Building on recent work of both NCVHS and the Office of the National Coordinator for Health Information Technology (ONC), the Subcommittee is gathering input to inform phase 1 of its two-year project Standardization of Information for Burden Reduction and Post-Pandemic America. This work involves assessing the current landscape of standards development and regulatory adoption processes and identifying opportunities for improving coordination of standards development, adoption, implementation, and conformity across disparate health-related data systems. NCVHS may use the information to inform recommendations to HHS. These recommendations may include an updated framework for standards adoption and implementation that takes into consideration public health, wellness, social services, clinical and claims information and newer technologies that promote interoperability across the health care system.

In conjunction with the August 25th listening session, the Subcommittee is including in this notice a Request for Public Comment to obtain written input from any interested stakeholders including: Trading partners and consumers; payers; providers; patients; standards organizations; advocacy groups; data exchanges; health information technology developers; and other data producers and data consumers including long term and post-acute care providers; public health agencies; population health registries; and operators of public and private sector claims and encounter data reporting systems. The Committee has developed specific questions to ensure comments address key issues under consideration by the Committee. Those questions are outlined here and available at: https://ncvhs.hhs.gov/Request-for-Public-Comment-Standards-Subcommittee-August-Listening-Session.

(1) How can data sharing be improved between patients, providers, payers, public health system, and other actors in health care? What are the barriers to these improvements?

(2) Are there any new standards or use cases available or under development that should be considered by NCVHS for recommendation to HHS for adoption to support interoperability, burden reduction and administrative simplification? Some examples might include new information sharing in health care, such as data or semantics for social determinants of health, public health case reporting, or All Payer Claims Databases. Please do not limit responses to these examples.

(3) How have other industries effectively implemented, tested, and certified standards for data and their exchange that could be considered for health care?

(4) What short term, mid-term and long-term opportunities or solutions do you believe should be priorities for HHS?

Please submit comments to NCVHSmail@cdc.gov by close of business Friday, July 30, 2021.

The Subcommittee will consider information from the invited panelists as well as all timely submitted written comments from the public in its development of a landscape assessment and potential recommendations.

There will be a public comment period. The meeting times and topics are subject to change. Please refer to the NCVHS website posted agenda for any updates.

Contact Person for More Information: Substantive program information may be obtained from Rebecca Hines, MHS, Executive Secretary, NCVHS, National Center for Health Statistics, Centers for Disease Control and Prevention, 3311 Toledo Road, Hyattsville, Maryland 20782, telephone (301) 458-4715, email NCVHSmail@cdc.gov. Summaries of meetings and a roster of Committee members are available on the home page of the NCVHS website https://ncvhs.hhs.gov/. Further information, including an agenda and instructions to access the broadcast of the meeting, will be posted as soon as the information is available.

Should you require reasonable accommodation, please contact the CDC Office of Equal Employment Opportunity on (770) 488-3210 as soon as possible.

Sharon Arnold,
Associate Deputy Assistant Secretary for Planning and Evaluation, Science and Data Policy, Office of the Assistant Secretary for Planning and Evaluation.

[FR Doc. 2021-13334 Filed 6-23-21; 8:45 am]

BILLING CODE 4150-05-P